CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, CNCS is soliciting comments concerning its proposed use of the AmeriCorps NCCC Project Completion Report. The report is used to collect project assessment and implementation information. Organizations that are awarded and sponsor an AmeriCorps NCCC team will be required to complete this collection instrument.

Copies of the information collection request can be obtained by contacting the office listed in the Addresses section of this Notice.

DATES: Written comments must be submitted to the individual and office listed in the ADDRESSES section by December 5, 2016.

ADDRESSES: You may submit comments, identified by the title of the information collection activity, by any of the following methods:

(1) By mail sent to: Corporation for National and Community Service, AmeriCorps NCCC; Attention Terry D. Grant, Program Analyst, 3238-C; 250 E Street SW., Washington, DC 20525.

(2) By hand delivery or by courier to the CNCS mailroom at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Terry D. Grant, 202-606-6899, or by email at tgrant@cns.gov.

SUPPLEMENTARY INFORMATION:

CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

Organizations that sponsor an AmeriCorps NCCC team provide the information collected on this form in order to report on the project's implementation and assess the project's scope and community impact.

Current Action

This is a new information collection request. The AmeriCorps NCCC Project Completion Report is distributed to organizations that have hosted an NCCC team within 30 days of the end of each project and should be completed within 60 days of the end of each project. Reports are submitted via PDF by email to NCCC staff.

Type of Review: New.

Agency: Corporation for National and Community Service.

Title: AmeriCorps NCCC Project Completion Report.

OMB Number: None.

Agency Number: None.

Affected Public: AmeriCorps NCCC Project Sponsoring Organizations.

Total Respondents: Approximately 1,000 per year.

Frequency: Once per project.

Average Time per Response: Averages 15 minutes.

Estimated Total Burden Hours: Approximately 300 hours.

Total Burden Cost (capital/startup): None.

Total Burden Cost (operating/maintenance): None.

Comments submitted in response to this notice will be summarized and/or included in the request for Office of Management and Budget approval of the information collection request; they will also become a matter of public record.

Dated: September 28, 2016.
Jacob Sgambati,
Director of Operations, NCCC.

[FR Doc. 2016-23963 Filed 10-3-16; 8:45 am]

BILLING CODE 6050-28-P